DEPARTMENT OF COMMERCE

Foreign-Trade Zones Board

[B-27-2022]

Foreign-Trade Zone (FTZ) 149—Freeport, Texas; Authorization of Production Activity; Maxter Healthcare Inc. (Medical Examination Disposable Gloves); Rosharon, Texas

On June 24, 2022, Port Freeport, grantee of FTZ 149, submitted a notification of proposed production activity to the FTZ Board on behalf of Maxter Healthcare Inc., within Subzone 149H, in Rosharon, Texas.

The notification was processed in accordance with the regulations of the FTZ Board (15 CFR part 400), including notice in the Federal Register inviting public comment (87 FR 40484, July 7, 2022). On October 24, 2022, the applicant was notified of the FTZ Board's decision that no further review of the activity is warranted at this time. The production activity described in the notification was authorized, subject to the FTZ Act and the FTZ Board's regulations, including section 400.14.

Dated: October 24, 2022.
Andrew McGilvray,
Executive Secretary.

[FR Doc. 2022-23430 Filed 10-26-22; 8:45 am]

BILLING CODE 3510-DS-P